DEPARTMENT OF LABOR

Office of the Secretary

Bureau of International Labor Affairs; Labor Advisory Committee for Trade Negotiations and Trade Policy

ACTION: Notice of postponement of meeting.

SUMMARY: Notice is hereby given that a meeting of the Labor Advisory Committee for Trade Negotiation and Trade Policy has been postponed until further notice. This meeting, which was closed to the public, was to be held on July 7, 2014, from 10:00 a.m. to 11:30 a.m. at the U.S. Department of Labor, Secretary's Conference Room, 200 Constitution Ave. NW., Washington, DC.

The original Federal Register notice announcing this meeting was published on June 18, 2014, at 79 FR 34786.

FOR FURTHER INFORMATION CONTACT: Anne M. Zollner, Chief, Trade Policy and Negotiations Division; Phone: (202) 693-4890.

Signed at Washington, DC, the 3rd day of July, 2014.

Carol Pier,
Deputy Undersecretary, International Affairs.

[FR Doc. 2014-16775 Filed 7-15-14; 8:45 am]

BILLING CODE 4510-28-P